ENVIRONMENTAL PROTECTION AGENCY

[FRL-7822-2]

Status of Motor Vehicle Budgets in Submitted State Implementation Plan for Transportation Conformity Purposes; Metropolitan Washington DC Area (DC-MD-VA) Notice of Withdrawal of Adequacy of Motor Vehicle Emissions Budgets

AGENCY: Environmental Protection Agency (EPA).

ACTION: Notice of withdrawal of adequacy.

SUMMARY: EPA is announcing that it has withdrawn its June 22, 2000 adequacy finding on the 2015 and 2020 outyear motor vehicle emission budgets (MVEBs) for the Metropolitan Washington DC area. EPA has withdrawn the June 22, 2000 adequacy finding because the District of Columbia (DC), State of Maryland (MD), and the Commonwealth of Virginia (VA), collectively referred to as the three jurisdictions, withdrew the state implementation plan (SIP) submissions containing those MVEBs. Those SIP revisions are no longer pending before EPA. On August 26, 2004, EPA sent letters to the three jurisdictions withdrawing the June 22, 2000 adequacy finding of the 2015 and 2020 outyear MVEBs. EPA's withdrawal of its June 22, 2000 adequacy finding means that the 2015 and 2020 outyear MVEBs are no longer available for transportation conformity purposes. This withdrawal of the June 22, 2000 adequacy finding has no effect whatsoever on EPA's more recent adequacy finding of December 9, 2003, which declared the MVEBs of the three jurisdictions' 2005 Rate of Progress Plan and 2005 revised Attainment Demonstration Plan submissions adequate for conformity purposes. That December 9, 2003 adequacy finding stands and the MVEBs of the 2005 Rate of Progress Plan and 2005 revised Attainment Demonstration Plan remain available for transportation conformity determinations.

DATES: EPA's withdrawal of the June 22, 2000 adequacy finding was made in letters dated August 26, 2004 from EPA Region III to the three jurisdictions. This August 26, 2004 withdrawal of the June 22, 2000 adequacy finding is effective on October 15, 2004.

FOR FURTHER INFORMATION CONTACT: Martin Kotsch, U.S. EPA, Region III, 1650 Arch Street, Philadelphia, PA 19103 at (215) 814-3335 or by e-mail at kotsch.martin@epa.gov.

SUPPLEMENTARY INFORMATION: Throughout this document the term “MVEBs” refers to the motor vehicle emission budgets for volatile organic compounds (VOCs) and nitrogen oxides (NOX). The term “the three jurisdictions” refers collectively to the District of Columbia, the State of Maryland, and the Commonwealth of Virginia. The word “SIP” in this document refers to the revised attainment plan for the Metropolitan Washington DC area submitted to EPA as SIP revisions by the Commonwealth of Virginia, the District of Columbia, and State of Maryland on March 22, 2000, March 22, 2000, and March 31, 2000, respectively. These SIP revision submittals identified outyear MVEBs for 2015 and 2020.

I. Background

The State of Maryland, the Commonwealth of Virginia, and District of Columbia by letters dated March 2, 2004, March 10, 2004, and March 10, 2004, respectively, withdrew the previously submitted SIPs listed in the table below:

State | SIP title | Original SIP submission date
Maryland | State Implementation Plan (SIP) Revision Phase II Attainment Plan for the DC-MD-VA Nonattainment Area Establishing Outyear Mobile Emissions Budgets for Transportation Conformity | March 31, 2000.
Virginia | Plan amendment which establishes motor vehicle emissions budgets for 2015 and 2020 consistent with the Phase II Ozone Attainment Plan | March 22, 2000.
Washington, DC | Proposed Revision to State Implementation Plan (SIP) Revision, Phase II Attainment Plan for the DC-MD-VA Nonattainment Area Establishing Out-year Mobile Emissions Budgets for Transportation Conformity | March 22, 2000.

These SIP withdrawals by the three jurisdictions were effective on April 30, 2004. The withdrawn SIP submissions had proposed new MVEBs for the outyears 2015 and 2020. In letters dated June 22, 2000 from Judith Katz, Air Director, EPA, Region III to the three jurisdictions, EPA had found these MVEBs adequate for transportation conformity purposes. That June 22, 2000 adequacy finding was announced in the Federal Register on July 3, 2000 (65 FR 41067). It is important to note that while EPA had made an adequacy finding for these budgets, they were never approved as SIP revisions by EPA. Hence, there is no SIP rulemaking required to be withdrawn by EPA in regard to these outyear MVEBs.

Because the MVEBs EPA found adequate on June 22, 2000 were contained in the SIP submissions that have been withdrawn by the three jurisdictions, those MVEBs can no longer be considered adequate for transportation conformity purposes. EPA, therefore, sent letters on August 26, 2004 to the three jurisdictions withdrawing the June 22, 2000 adequacy finding. EPA has withdrawn its June 22, 2000 adequacy finding without prior notice and comment because adequacy findings are not considered rulemakings subject to the procedural requirements of the Administrative Procedures Act. In addition, EPA does not believe notice through EPA's conformity website is necessary in advance because the withdrawn SIPs are no longer pending before EPA for consideration. Consequently, further public comment would be unnecessary and not in the public interest. By sending the August 26, 2004 letters to the three jurisdictions, EPA has also withdrawn all statements and comments previously made regarding its June 22, 2000 adequacy finding of the MVEBs budgets for transportation conformity purposes.

This is an announcement of EPA's withdrawal of its June 22, 2000 adequacy finding. As previously explained, EPA withdrew this adequacy finding in letters dated August 26, 2004 from Judith M. Katz, Director, Air Protection Division, EPA Region III to the three jurisdictions. The effective date of this withdrawal is October 15, 2004. This announcement will also be made on EPA's Web site: http://www.epa.gov/otaq/transp.htm (once there, click on the “Conformity” button).

Dated: September 21, 2004.
Thomas Voltaggio,
Acting Regional Administrator, Region III.

[FR Doc. 04-21929 Filed 9-29-04; 8:45 am]

BILLING CODE 6560-50-P